SURFACE TRANSPORTATION BOARD

[Docket No. FD 36573]

Western Nevada Railroad, LLC—Lease and Operation Exemption—Line in Churchill County, Nev.

Western Nevada Railroad, LLC (WNRR), a noncarrier, has filed a verified notice of exemption under 49 CFR 1150.31 to enter into an agreement to lease and operate 4,100 feet of existing track at the Fernley Business Park (FBP) at or near Fernley/Darwin, Churchill County, Nev. (the Line).

WNRR states that the Line connects to a rail line owned by Union Pacific Railroad Company (UP), over which BNSF Railway Company (BNSF) also has service rights. According to WNRR, the Line is currently private industry track that is served by UP and BNSF with switching service provided by a third-party contract switching operator, Western Nevada Transload, LLC (WNT). WNRR states that it will enter into a lease and operating agreement for the Line with Fernley Business Park, LLC, the owner of FBP. WNRR states that it will also obtain the right to construct additional industrial tracks in FBP to attract additional customers and rail business, and that WNT will continue to provide contract switching service on the Line until the buildout is complete and additional rail-served industries locate at FBP.

WNRR states that no interchange commitments are being imposed on its operations by the lease and operating agreement. WNRR certifies that its projected revenues as a result of the transaction will not exceed those that would qualify it as a Class III carrier and will not exceed $5 million.

The transaction may be consummated on or after January 21, 2022, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than January 14, 2022 (at least seven days before the exemption becomes effective).

All pleadings, referring to Docket No. FD 36573, should be filed with the Surface Transportation Board via e-filing on the Board's website. In addition, a copy of each pleading must be served on WNRR's representative, Eric M. Hocky, Clark Hill PLC, Two Commerce Square, 2001 Market Street, Suite 2620, Philadelphia, PA 19103.

According to WNRR, this action is categorically excluded from environmental review under 49 CFR 1105.6(c) and from historic reporting requirements under 49 CFR 1105.8(b).

Board decisions and notices are available at www.stb.gov.

Decided: December 30, 2021.
By the Board, Scott M. Zimmerman, Acting Director, Office of Proceedings.
Kenyatta Clay,
Clearance Clerk.

[FR Doc. 2022-00069 Filed 1-6-22; 8:45 am]

BILLING CODE 4915-01-P